DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Dates and Times: Wednesday, June 21, 2017: 9:00 a.m.-5:30 p.m.

Thursday, June 22, 2017: 8:30 a.m.-3:15 p.m.

Place: U.S. Department of Health and Human Services, Hubert H. Humphrey Building, 200 Independence Avenue SW., Room 705A, Washington, DC 20201, (202) 690-7100.

Status: Open.

Purpose: At the June 21-22, 2017 meeting, the Committee will hear presentations, hold discussions on several health data policy topics, and receive updates from HHS, the Office of the National Coordinator for Health IT, the CDC National Center for Health Statistics, the National Library of Medicine, and Centers for Medicare and Medicaid Services. On the first day, the Committee will focus on two items anticipated for action: A recommendation letter that addresses the Health Plan Identifier in follow up to the May 3, 2017 HPID Hearing, and follow up on the NCVHS June 2016 Hearing on claims-based databases for policy development and evaluation. The Committee will review status reports on various NCVHS products; an upcoming hearing on the next generation of vital statistics; and the Predictability Roadmap under development by the Standards Subcommittee. Significant time will be devoted to discussion and formulation of two new complex long-term project topics—an environmental scan of terminology & vocabulary development, maintenance and dissemination processes on the first day; on the second day, building on past work, exploration of a range of challenges beyond HIPAA and the range of policy options that may be available to the Department related to privacy, security and access measures to protect individually identifiable health information in an environment of electronic networking and multiple uses of data. In addition, the Committee will continue to focus on planning efforts and follow-up items on actions from the previous day.

The times and topics are subject to change. Please refer to the posted agenda for any updates.

Contact Person for More Information: Substantive program information may be obtained from Rebecca Hines, MHS, Executive Secretary, NCVHS, National Center for Health Statistics, Centers for Disease Control and Prevention, 3311 Toledo Road, Hyattsville, Maryland 20782, telephone (301) 458-4715. Summaries of meetings and a roster of Committee members are available on the home page of the NCVHS Web site: http://www.ncvhs.hhs.gov/, where further information including an agenda and instructions to access the audio broadcast of the meetings will also be posted. Should you require reasonable accommodation, please contact the CDC Office of Equal Employment Opportunity on (770) 488-3210 as soon as possible.

Dated: May 9, 2017.
Laina Bush,
Deputy Assistant Secretary for Planning and Evaluation, Office of the Assistant Secretary for Planning and Evaluation.

[FR Doc. 2017-09982 Filed 5-16-17; 8:45 am]

BILLING CODE 4151-05-P